NATIONAL AERONAUTICS AND SPACE ADMINISTRATION

[Notice 04-124]

Notice of Prospective Patent License

AGENCY: National Aeronautics and Space Administration.

ACTION: Notice of prospective patent license.

SUMMARY: NASA hereby gives notice that First Technology PLC acting through its subsidiary Control Devices Inc., of Standish, Maine, has applied for an exclusive license to practice the invention described and claimed in U.S. Patent No. 6,239,601 entitled “Thickness Measurement Device for Ice, or Ice Mixed with Water or Other Liquid”, which is assigned to the United States of America as represented by the Administrator of the National Aeronautics and Space Administration. Written objections to the prospective grant of a license should be sent to NASA Langley Research Center. NASA has not yet made a determination to grant the requested license and may deny the requested license even if no objections are submitted within the comment period.

DATES: Responses to this notice must be received by November 29, 2004.

FOR FURTHER INFORMATION CONTACT: Helen Galus, Patent Attorney, Mail Stop 212, NASA Langley Research Center, Hampton, VA 23681-2199, (757) 864-3227; Fax 757-864-9190.

Dated: October 22, 2004.
Keith T. Sefton,
Deputy General Counsel (Administration and Management).

[FR Doc. 04-25124 Filed 11-10-04; 8:45 am]

BILLING CODE 7510-13-P